DEPARTMENT OF ENERGY

Federal Energy Regulatory Commission

[Project No. 13876-000]

South Run Pumped Storage, LLC; Notice of Preliminary Permit Application Accepted for Filing and Soliciting Comments, Motions To Intervene, and Competing Applications

December 13, 2010.

On October 26, 2010, South Run Pumped Storage, LLC, Massachusetts, filed an application for a preliminary permit, pursuant to section 4(f) of the Federal Power Act (FPA), proposing to study the feasibility of the South Run Pumped Storage Project (South Run Project or project) to be located on South Run, near Norton, Medina and Summit counties, Ohio. The sole purpose of a preliminary permit, if issued, is to grant the permit holder priority to file a license application during the permit term. A preliminary permit does not authorize the permit holder to perform any land-disturbing activities or otherwise enter upon lands or waters owned by others without the owners' express permission.

The proposed project would consist of: (1) An excavated, diked, and asphalt-lined 255-acre upper reservoir having a maximum water surface area of about 195 acres and a total volume of 7,805 acre-feet; (2) a 7,760-acre-foot capacity underground lower reservoir, 2,200 feet below ground surface, created by previous limestone mining activities; (3) a diversion channel around the west and south sides of the upper reservoir with sufficient capacity to carry a 100-year flood flow of 1,170 cubic feet per second; (4) a 28-foot-diameter, 7,000-foot-long, concrete-lined power tunnel located 300 feet below the ground surface that extends from the upper reservoir to two 17.5-foot-diameter, 2,400-foot-long concrete-lined vertical shafts connecting the power tunnel with the underground powerhouse penstocks; (5) six 6-foot-3-inch diameter, 235-foot-long, steel-and concrete-lined penstocks; (6) an underground powerhouse containing six 250-megawatt (MW) reversible pump-turbines; (7) an underground transformer gallery; (8) a 3-mile-long, 345-kilovolt overhead transmission line; and (9) appurtenant facilities. The estimated annual generation of the South Run Project would be between 1,300 and 2,000 gigawatt-hours, depending on utilization factors. There are no Federal or state lands associated with the project.

Applicant Contact: Daniel R. Irvin, Free Flow Power Corporation, 33 Commercial Street, Gloucester, MA 01930; phone: (978) 252-7631.

FERC Contact: Sergiu Serban; phone: (202) 502-6211.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13876-000) in the docket number field to access the document. For assistance, contact FERC Online Support.

Kimberly D. Bose,
Secretary.

[FR Doc. 2010-31708 Filed 12-16-10; 8:45 am]

BILLING CODE 6717-01-P